DEPARTMENT OF HOMELAND SECURITY

Federal Emergency Management Agency

[Docket ID FEMA-2023-0002; Internal Agency Docket No. FEMA-B-2335]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Colorado:
Boulder | City of Boulder (22-08-0586P). | The Honorable Aaron Brockett, Mayor, City of Boulder, 1777 Broadway Street, Boulder, CO 80306. | City Hall, 1777 Broadway Street, Boulder, CO 80306. | https://msc.fema.gov/portal/advanceSearch. | Jul. 17, 2023 | 080024
Denver | City and County of Denver (21-08-0294P). | The Honorable Michael B. Hancock, Mayor, City and County of Denver, 1437 Bannock Street, Suite 300, Denver, CO 80202. | Department of Transportation and Infrastructure, 201 West Colfax Avenue, Department 608, Denver, CO 80202. | https://msc.fema.gov/portal/advanceSearch. | Jul. 24, 2023 | 080046
Grand | Town of Fraser (22-08-0389P). | Ed Cannon, Manager, Town of Fraser, P.O. Box 370, Fraser, CO 80442. | Planning Department, 153 Fraser Avenue, Fraser, CO 80442. | https://msc.fema.gov/portal/advanceSearch. | Jun. 23, 2023 | 080073
Grand | Unincorporated areas of Grand County (22-08-0389P). | Edward T. Moyer, Grand County Manager, P.O. Box 264, Hot Sulphur Springs, CO 80451. | Grand County Community Development Department, 308 Byers Avenue, Hot Sulphur Springs, CO 80451. | https://msc.fema.gov/portal/advanceSearch. | Jun. 23, 2023 | 080280
Florida:
Collier | City of Naples (22-04-5499P). | Jay Boodheshwar, Manager, City of Naples, 735 8th Street South, Naples, FL 34102. | Building Department, 295 Riverside Circle, Naples, FL 34102. | https://msc.fema.gov/portal/advanceSearch. | Jun. 12, 2023 | 125130
Hillsborough | City of Plant City (22-04-3498P). | Bill McDaniel, Manager, City of Plant City, 302 West Reynolds Street, Plant City, FL 33563. | City Hall, 302 West Reynolds Street, Plant City, FL 33563. | https://msc.fema.gov/portal/advanceSearch. | Jul. 20, 2023 | 120113
Hillsborough | City of Tampa (23-04-0603P). | The Honorable Jane Castor, Mayor, City of Tampa, 306 East Jackson Street, Tampa, FL 33602. | Planning Department, 1400 North Boulevard, Tampa, FL 33607. | https://msc.fema.gov/portal/advanceSearch. | Jul. 27, 2023 | 120114
Palm Beach | Unincorporated areas of Palm Beach County (22-04-0127P). | Verdenia C. Baker, Palm Beach County Administrator, 301 North Olive Avenue, Suite 1101, West Palm Beach, FL 33401. | Palm Beach County Planning, Zoning, and Building Department, 2300 North Jog Road, West Palm Beach, FL 33411. | https://msc.fema.gov/portal/advanceSearch. | Jul. 24, 2023 | 120192
Volusia | City of Edgewater (22-04-4207P). | The Honorable Diezel DePew, Mayor, City of Edgewater, P.O. Box 100, Edgewater, FL 32132. | Stormwater Department, 409 Mango Tree Drive, Edgewater, FL 32132. | https://msc.fema.gov/portal/advanceSearch. | Jul. 14, 2023 | 120308
Volusia | Unincorporated areas of Volusia County (22-04-4207P). | George Recktenwald, Manager, Volusia County, 123 West Indiana Avenue, DeLand, FL 32720. | Volusia County Thomas C. Kelly Administration Center, 123 West Indiana Avenue, DeLand, FL 32720. | https://msc.fema.gov/portal/advanceSearch. | Jul. 14, 2023 | 125155
New Mexico:
Curry | City of Clovis (22-06-0491P). | The Honorable Mike Morris, Mayor, City of Clovis, 321 North Connelly Street, Clovis, NM 88101. | City Hall, 321 North Connelly Street, Clovis, NM 88101. | https://msc.fema.gov/portal/advanceSearch. | Jul. 13, 2023 | 350010
Curry | Unincorporated areas of Curry County (22-06-0491P). | Lance A. Pyle, Curry County Manager, 417 Gidding Street, Suite 100, Clovis, NM 88101. | Curry County Clerk's Office, 417 Gidding Street, Suite 130, Clovis, NM 88101. | https://msc.fema.gov/portal/advanceSearch. | Jul. 13, 2023 | 350127
South Carolina:
Berkeley | Town of Moncks Corner (22-04-1920P). | The Honorable Michael A. Lockliear, Mayor, Town of Moncks Corner, P.O. Box 700, Moncks Corner, SC 29461. | Community Development Department, 118 Carolina Avenue, Moncks Corner, SC 29461. | https://msc.fema.gov/portal/advanceSearch. | Jul. 20, 2023 | 450031
Berkeley | Unincorporated areas of Berkeley County (22-04-1920P). | The Honorable Johnny Cribb, Supervisor, Berkeley County Council, 1003 North Highway 52, Moncks Corner, SC 29461. | Berkeley County Building and Codes Enforcement Department, 1003 North Highway 52, Moncks Corner, SC 29461. | https://msc.fema.gov/portal/advanceSearch. | Jul. 20, 2023 | 450029
Texas:
Collin. | City of Lucas (22-06-1259P). | The Honorable Jim Olk, Mayor, City of Lucas, 665 Country Club Road, Lucas, TX 75002. | Public Works Department, 665 Country Club Road, Lucas, TX 75002. | https://msc.fema.gov/portal/advanceSearch. | Jun. 26, 2023 | 481545
Collin | City of Parker (22-06-1259P). | The Honorable Lee Pettle, Mayor, City of Parker, 5700 East Parker Road, Parker, TX 75002. | Public Works Department, 5700 East Parker Road, Parker, TX 75002. | https://msc.fema.gov/portal/advanceSearch. | Jun. 26, 2023 | 480139
Collin | Unincorporated areas of Collin County (22-06-1259P). | The Honorable Chris Hill, Collin County Judge, 2300 Bloomdale Road, Suite 4192, McKinney, TX 75071. | Collin County Engineering Department, 4690 Community Avenue, Suite 200, McKinney, TX 75071. | https://msc.fema.gov/portal/advanceSearch. | Jun. 26, 2023 | 480130
Dallas | City of Dallas (22-06-2590P). | The Honorable Eric Johnson, Mayor, City of Dallas, 1500 Marilla Street, Suite 5EN, Dallas, TX 75201. | Oak Cliff Municipal Center, 320 East Jefferson Blvd. Suite 312, Dallas, TX 75203. | https://msc.fema.gov/portal/advanceSearch. | Jun. 20, 2023 | 480171
Fannin | Unincorporated areas of Fannin County (22-06-0044P). | The Honorable Randy Moore, Fannin County Judge, 101 East Sam Rayburn Drive, Suite 214, Bonham, TX 75418. | Fannin County Emergency Management Department, 2375 Silo Road, Bonham, TX 75418. | https://msc.fema.gov/portal/advanceSearch. | Jul. 5, 2023 | 480807
Starr | City of Rio Grande City (22-06-2596P). | The Honorable Joel Villarreal, Mayor, City of Rio Grande City, 5332 East Highway 83, Rio Grande City, TX 78582. | City Hall, 101 South Washington Street, Rio Grande City, TX 78582. | https://msc.fema.gov/portal/advanceSearch. | Aug. 14, 2023 | 481678
Starr | Unincorporated areas of Starr County (22-06-2596P). | The Honorable Eloy Vera, Starr County Judge, 100 North F.M. 3167, Rio Grande City, TX 78582. | Starr County Courthouse Annex, 100 North F.M. 3167, Rio Grande City, TX 78582. | https://msc.fema.gov/portal/advanceSearch. | Aug. 14, 2023 | 480575
Tarrant | City of Fort Worth (22-06-2617P). | The Honorable Mattie Parker, Mayor, City of Fort Worth, 200 Texas Street, Fort Worth, TX 76102. | Transportation and Public Works Department, Engineering Vault, 200 Texas Street, Fort Worth, TX 76102. | https://msc.fema.gov/portal/advanceSearch. | Jul. 20, 2023 | 480596
Tarrant | City of Keller (22-06-2447P). | The Honorable Armin R. Mizani, Mayor, City of Keller, P.O. Box 770, Keller, TX 76244. | Town Hall, 1100 Bear Creek Parkway, Keller, TX 76248. | https://msc.fema.gov/portal/advanceSearch. | Jul. 24, 2023 | 480602
Travis | City of Round Rock (22-06-0823P). | The Honorable Craig Morgan, Mayor, City of Round Rock, 221 East Main Street, Round Rock, TX 78664. | City Hall, 221 East Main Street, Round Rock, TX 78664. | https://msc.fema.gov/portal/advanceSearch. | Jul. 10, 2023 | 481048
Travis | Unincorporated areas of Travis County (22-06-0823P). | The Honorable Andy Brown, Travis County Judge, P.O. Box 1748, Austin, TX 78767. | Travis County Transportation and Natural Resources Department, 700 Lavaca Street, 5th Floor, Austin, TX 78701. | https://msc.fema.gov/portal/advanceSearch. | Jul. 10, 2023 | 481026
Williamson | Unincorporated areas of Williamson County (22-06-2448P). | The Honorable Bill Gravell, Jr., Williamson County Judge, Mayor, City of Keller, 710 South Main Street, Suite 101, Georgetown, TX 78626. | Williamson County Engineering Department, 3151 Southeast Inner Loop, Georgetown, TX 78626. | https://msc.fema.gov/portal/advanceSearch. | Jul. 13, 2023 | 481079
Utah:
Washington | City of St. George (22-08-0422P). | John Willis, Manager, City of St. George, 175 East 200 North, St. George, UT 84770. | Public Works and Engineering Department, 175 East 200 North, St. George, UT 84770. | https://msc.fema.gov/portal/advanceSearch. | Jun. 30, 2023 | 491177
Virginia:
Loudoun | Unincorporated areas of Loudoun County (22-03-1016P). | Tim Hemstreet, Loudoun County Administrator, 1 Harrison Street, Southeast, 5th Floor, Leesburg, VA 20175. | Loudoun County Government Center, 1 Harrison Street Southeast, 3rd Floor, MSC #60, Leesburg, VA 20175. | https://msc.fema.gov/portal/advanceSearch. | Jul. 10, 2023 | 510090

[FR Doc. 2023-09791 Filed 5-8-23; 8:45 am]

BILLING CODE 9110-12-P